SURFACE TRANSPORTATION BOARD

[Docket No. FD 36570]

Sierra Northern Railway—Lease and Operation Exemption—Ventura County Transportation Commission

Sierra Northern Railway (SNR), a Class III rail carrier, has filed a verified notice of exemption pursuant to 49 CFR 1150.41 to lease from Ventura County Transportation Commission (VCTC) and to operate an approximately 31.87-mile rail line extending from at or near milepost 403.20, in Ventura, Cal., eastward to milepost 435.07, east of Piru, Cal. (the Line).

According to SNR, the Line has been leased and operated by Fillmore & Western Freight Service, LLC, since 2002. See Fillmore & W. Freight Serv., LLC—Lease & Operation Exemption—Ventura Cnty. Transp. Comm'n, FD 34173 (STB served May 3, 2002). SNR states that it has been selected as the new operator of the Line and has reached an agreement with VCTC that will allow SNR to lease and operate the Line upon the exemption's effective date.¹

¹ According to the verified notice, Union Pacific Railroad Company (UP) currently provides freight railroad services to one shipper over a portion of the Line from milepost 415.0 to milepost 403.2 (Western Portion). SNR states that UP's operating rights over the Western Portion will continue pursuant to the terms of UP's agreement with VCTC.

SNR states that the proposed transaction does not involve any provision or agreement that would limit future interchange with a third-party connecting carrier. Further, SNR certifies that its projected annual revenue resulting from the proposed transaction will not exceed $5 million and will not result in the creation of a Class I or II rail carrier.

The earliest this transaction may be consummated is December 31, 2021, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than December 23, 2021 (at least seven days before the exemption becomes effective).

All pleadings, referring to Docket No. FD 36570, should be filed with the Surface Transportation Board via e-filing on the Board's website. In addition, a copy of each pleading must be served on SNR's representative: William A. Mullins, Baker & Miller PLLC, 2401 Pennsylvania Avenue NW, Suite 300, Washington, DC 20037.

According to SNR, this action is categorically excluded from environmental review under 49 CFR 1105.6(c) and from historic preservation reporting requirements under 49 CFR 1105.8(b).

Board decisions and notices are available at www.stb.gov.

Decided: December 14, 2021.
By the Board, Scott M. Zimmerman, Acting Director, Office of Proceedings.
Aretha Laws-Byrum,
Clearance Clerk.

[FR Doc. 2021-27330 Filed 12-16-21; 8:45 am]

BILLING CODE 4915-01-P